DEPARTMENT OF DEFENSE

Office of the Secretary

[Transmittal Nos. 11-41]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-41 with attached transmittal and policy justification.

Dated: November 17, 2011.
Aaron Siegel,
Alternate OSD Federal Register Liaison Officer, Department of Defense.

BILLING CODE 5001-06-P

BILLING CODE 5001-06-C

Transmittal No. 11-41

Notice of Proposed Issuance of Letter of Offer Pursuant to Section 36(b)(1) of the Arms Export Control Act, as amended

(i) Prospective Purchaser: Kuwait.

(ii) Total Estimated Value:

Major Defense Equipment * | $ 0 million
Other | $ 100 million
TOTAL | $ 100 million

(iii) Description and Quantity or Quantities of Articles or Services under Consideration for Purchase: continuing logistics support, contractor maintenance, and technical services in support of the F/A-18 aircraft to include Contractor Engineering Technical Services/Contractor Maintenance Services, Hush House Maintenance Support Services, and Liaison Office Support Services, U.S. Government and contractor technical and logistics personnel services and other related elements of program support.

* as defined in Section 47(6) of the Arms Export Control Act.

(iv) Military Department: Navy (GGT).

(v) Prior Related Cases, if any: numerous cases dating back to 1995.

(vi) Sales Commission, Fee, etc., Paid, Offered, or Agreed to be Paid: None.

(vii) Sensitivity of Technology Contained in the Defense Article or Defense Services Proposed to be Sold: None.

(viii) Date Report Delivered to Congress: 8 November 2011.

Policy Justification

Kuwait—Technical/Logistics Support for F/A-18 Aircraft

The Government of Kuwait has requested a possible sale of continuing logistics support, contractor maintenance, and technical services in support of the F/A-18 aircraft to include Contractor Engineering Technical Services/Contractor Maintenance Services, Hush House Maintenance Support Services, and Liaison Office Support Services, U.S. Government and contractor technical and logistics personnel services and other related elements of program support. The estimated cost is $100 million.

This proposed sale will contribute to the foreign policy and national security of the United States by helping to improve the security of a friendly country which has been, and continues to be, an important force for political stability and economic progress in the Middle East.

The Government of Kuwait needs this logistics support, contractor maintenance, and technical services to maintain the operational capabilities of its aircraft.

The contractor maintenance and training technical services will not alter the basic military balance in the region.

The principal contractors will be The Boeing Company in St. Louis, Missouri; Kay and Associates in Buffalo Grove, Illinois; Industrial Acoustics Company in Winchester, United Kingdom; and General Dynamics in Fairfax, Virginia. There are no known offset agreements proposed in connection with this potential sale.

Implementation of this proposed sale will not require the assignment of any U.S. Government or contractor representatives to Kuwait.

There will be no adverse impact on U.S. defense readiness as a result of this proposed sale.

[FR Doc. 2011-30094 Filed 11-21-11; 8:45 am]

BILLING CODE 5001-06-P